DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (“we”) solicits review and comment from local, State, and Federal agencies, and the public on the following permit requests.

DATES: Comments on these permit applications must be received on or before September 8, 2005.

ADDRESSES: Written data or comments should be submitted to the U.S. Fish and Wildlife Service, Chief, Endangered Species, Ecological Services, 911 NE. 11th Avenue, Portland, Oregon 97232-4181 (telephone: 503-231-2063; fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents to the address above. Please refer to the respective permit number for each application when requesting copies of documents.

SUPPLEMENTARY INFORMATION:

Permit No. TE-106759

Applicant: Lauronda D. Cooper, Cupertino, California.

The applicant requests a permit to take (capture and mark) the giant kangaroo rat (Dipodomys ingens) and the Morro Bay kangaroo rat (Dipodomys heermanni morrensis) in conjunction with surveys throughout the range of each species in San Luis Obispo and Kern Counties, California, for the purpose of enhancing their survival.

Permit No. TE-106908

Applicant: Manna Warburton, San Diego, California.

The applicant requests a permit to take (harass by survey, capture, handle, and release) the arroyo toad (Bufo californicus), the mountain yellow-legged frog (Rana muscosa), the Santa Ana sucker (Catostomus santaanae), and the unarmored threespine stickleback (Gasterosteus aculeatus williamsoni) in conjunction with demographic surveys throughout the range of the species in California for the purpose of enhancing their survival.

Permit No. TE-107075

Applicant: Steven Powell, San Pablo, California.

The applicant requests a permit to take (harass by survey, capture, handle, and release) the San Francisco garter snake (Thamnophis sirtalis tetrataenia) in conjunction with demographic surveys throughout the range of the species in California for the purpose of enhancing its survival.

Permit No. TE-107981

Applicant: Margaret E. K. Evans, Seattle, Washington.

The applicant requests a permit to remove/reduce to possession (collect seed) the Oenothera deltoides ssp. howellii (Antioch Dunes evening-primrose) and the Oenothera avila ssp. eurekensis (Eureka Valley evening-primrose) in conjunction with research in Contra Costa and Inyo Counties, California, for the purpose of enhancing their survival.

Permit No. TE-006559

Applicant: Dale A. Powell, Riverside, California.

The permittee requests an amendment to take (capture and collect and sacrifice) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in Southern California for the purpose of enhancing their survival.

Permit No. TE-004939

Applicant: Gordon Pratt, Riverside, California.

The permittee requests an amendment to take (survey by pursuit, capture, handle, remove from the wild, captively propagate, and release to the wild) the El Segundo blue butterfly (Euphilotes battiudes allyni) and the Smith's blue butterfly (Euphilotes enoptes smithi) in conjunction with surveys and propagation activities throughout the range of each species in California for the purpose of enhancing their survival.

We solicit public review and comment on each of these recovery permit applications.

Dated: July 27, 2005.
Robert Williams,
Acting Manager, California/Nevada Operations Office, U.S. Fish and Wildlife Service.

[FR Doc. 05-15707 Filed 8-8-05; 8:45 am]

BILLING CODE 4310-55-P